DEPARTMENT OF LABOR

Employment and Training Administration

[TA-W-65,559]

Data Technology, D/B/A Gerber Innovations, Inc., a Gerber Scientific Company, Wilmington, MA; Notice of Termination of Investigation

Pursuant to Section 221 of the Trade Act of 1974, as amended, an investigation was initiated on March 11, 2009 in response to a petition filed by a company official on behalf of the workers at Data Technology d/b/a Gerber Innovations, Inc., a Gerber Scientific Company, Wilmington, Massachusetts.

The petitioner has requested that the petition be withdrawn. Consequently, the investigation has been terminated.

Signed at Washington, DC, this 25th day of March 2009.
Richard Church,
Certifying Officer, Division of Trade Adjustment Assistance.

[FR Doc. E9-10587 Filed 5-6-09; 8:45 am]

BILLING CODE 4510-FN-P